DEPARTMENT OF TRANSPORTATION

Federal Aviation Administration

14 CFR Part 39

[Docket No. FAA-2014-0438; Directorate Identifier 2014-CE-015-AD]

RIN 2120-AA64

Airworthiness Directives; Alexandria Aircraft LLC Airplanes

AGENCY: Federal Aviation Administration (FAA), DOT.

ACTION: Notice of proposed rulemaking (NPRM).

SUMMARY: We propose to supersede Airworthiness Directive (AD) 75-20-06, which applies to certain Alexandria Aircraft LLC (type certificate previously held by Bellanca Aircraft Corp., Viking Aviation, Inc., and Bellanca, Inc.) Models 14-19-3A, 17-30, 17-30A, 17-31, 17-31A, 17-31ATC, and 17-31TC airplanes. AD 75-20-06 requires repetitively inspecting the aft fuselage structure near the top of the vertical side tubing, which connects the horizontal stabilizer carry-through to the upper fuselage longeron, for cracks and installing the manufacturer's service repair kit as a terminating action for the repetitive inspections to repair any cracks found. Since we issued AD 75-20-06, we have determined that installing the service kit has not prevented cracks from occurring. We have also determined that all affected airplane serial numbers should be included in the Applicability section. This proposed AD would require continued repetitive inspections of the aft fuselage structure near the top of the vertical side tubing for cracks and making all necessary replacements of cracks parts. This proposed AD would also add additional serial number airplanes to the Applicability section. We are proposing this AD to correct the unsafe condition on these products.

DATES: We must receive comments on this proposed AD by August 18, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Alexandria Aircraft LLC, 2504 Aga Drive, Alexandria, MN 5630; phone: (320) 763-4088; fax: (320) 763-4095; Internet: www.bellanca-aircraft.com; email: partsales@bellanca-aircraft.com. You may view this referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2014-0438; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Steven Rosenfeld, Aerospace Engineer, FAA, Chicago Aircraft Certification Office, 2300 East Devon Avenue, Room 107, Des Plaines, IL 60018; phone: (847) 294-7030; fax: (847) 294-7834; email: steven.rosenfeld@faa.gov.

SUPPLEMENTARY INFORMATION:

Comments Invited

We invite you to send any written relevant data, views, or arguments about this proposed AD. Send your comments to an address listed under the ADDRESSES section. Include “Docket No. FAA-2014-0438; Directorate Identifier 2014-CE-015-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On September 12, 1975, we issued AD 75-20-06, Amendment 39-2372 (40 FR 13184, September 22, 1975), (“AD 75-20-06”), for certain Alexandria Aircraft LLC (type certificate previously held by Bellanca Aircraft Corp., Viking Aviation, Inc., and Bellanca, Inc.) Models 14-19-3A, 17-30, 17-30A, 17-31, 17-31A, 17-31ATC, and 17-31TC airplanes. AD 75-20-06 requires repetitively inspecting the aft fuselage structure near the top of the vertical side tubing, which connects the horizontal stabilizer carry-through to the upper fuselage longeron, for cracks and installing the manufacturer's service repair kit (Bellanca Kit SK1234789-0004) as a terminating action for the repetitive inspections to repair any cracks found. AD 75-20-06 resulted from reports of cracks found in the aft fuselage structure near the horizontal stabilizer carry-through on the Model 17 series airplanes. We issued AD 75-20-06 to detect and correct cracks in either vertical side fuselage tube (fuselage station (F.S.) 7), which is adjacent to the horizontal stabilizer carry-through, in the area near the upper fuselage longeron to prevent failure of the horizontal stabilizer. This failure could cause reduced structural integrity of the fuselage and result in loss of control.

Actions Since AD 75-20-06 Was Issued

Since we issued AD 75-20-06, we have received reports that cracks are still being found in the vertical side fuselage tube (F.S. 7) in the area near the upper fuselage longeron on airplanes that have had Bellanca Kit SK1234789-0004 installed, which is a terminating action for the repetitive inspections required in AD 75-20-06.

Relevant Service Information

We reviewed Alexandria Aircraft LLC Bellanca Service Letter 85, Revision B, dated April 8, 2004. The service letter describes procedures for repetitively inspecting the horizontal stabilizer fuselage attachment tube and carry-thru tube support bracket for cracks and replacing any cracked parts found.

FAA's Determination

We are proposing this AD because we evaluated all the relevant information and determined the unsafe condition described previously is likely to exist or develop in other products of the same type design.

Proposed AD Requirements

This proposed AD would retain the inspection requirements of AD 75-20-06 and remove the terminating action allowed in AD 75-20-06.

Costs of Compliance

We estimate that this proposed AD affects 847 airplanes of U.S. registry.

We estimate the following costs to comply with this proposed AD:

Estimated Costs
Action | Labor cost | Parts cost | Cost per product | Cost on U.S. operators
Inspecting the horizontal stabilizer fuselage attachment tube and carry-thru tube support bracket (retained actions from AD 75-20-06) | 1 work-hour × $85 per hour = $85 | Not applicable | $85 | $71,995

We estimate the following costs to do any necessary replacements that would be required based on the results of the proposed inspection. We have no way of determining the number of aircraft that might need these replacements:

On-Condition Costs
Action | Labor cost | Parts cost | Cost per product
Replacement of the horizontal stabilizer fuselage attachment tube and carry-thru tube support bracket | 30 work-hours × $85 per hour = $2,550 | $575 | $3,125

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in Subtitle VII, Part A, Subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 75-20-06, Amendment 39-2372 (40 FR 13184, September 22, 1975), and adding the following new AD:

Alexandria Aircraft LLC: Docket No. FAA-2014-0438; Directorate Identifier 2014-CE-015-AD.

(a) Comments Due Date

The FAA must receive comments on this AD action by August 18, 2014.

(b) Affected ADs

This AD supersedes AD 75-20-06, Amendment 39-2372 (40 FR 13184, September 22, 1975) (“AD 75-20-06”).

(c) Applicability

This AD applies to Alexandria Aircraft LLC (type certificate previously held by Bellanca Aircraft Corp., Viking Aviation, Inc., and Bellanca, Inc.) Models 14-19-3A, 17-30, 17-30A, 17-31, 17-31A, 17-31ATC, and 17-31TC airplanes, all serial numbers (S/Ns), certificated in any category.

(d) Subject

Joint Aircraft System Component (JASC)/Air Transport Association (ATA) of America Code 53, Fuselage.

(e) Unsafe Condition

This AD was prompted by reports that cracks are still being found in the vertical side fuselage tube (fuselage station 7) in the area near the upper fuselage longeron on airplanes that have had Bellanca Kit SK1234789-0004 installed, which is a terminating action for the repetitive inspections required in AD 75-20-06. We are issuing this AD to detect and correct cracks in either vertical side fuselage tube (F.S. 7), which is adjacent to the horizontal stabilizer carry-through, in the area near the upper fuselage longeron to prevent failure of the horizontal stabilizer. This failure could cause reduced structural integrity of the fuselage and result in loss of control.

(f) Compliance

Comply with this AD within the compliance times specified paragraphs (g) through (h) of this AD, unless already done.

(g) Inspection

(1) Models 14-19-3A and 17-31A, S/Ns 32-15 through 76-32-163; Models 17-30 and 17-30A, S/Ns 30263 through 76-30811; and Models 17-31, 17-31TC, and 17-31ATC, S/Ns 30004, and 31004 through 76-31124 (airplanes previously affected by AD 75-20-06): Within the next 100 hours time-in-service (TIS) after the last inspection completed by AD 75-20-06 or within the next 25 hours TIS after the effective date of this AD, whichever occurs later, and repetitively thereafter at intervals not to exceed 100 hours TIS, visually inspect the aft fuselage truss for cracks as specified in paragraph 4. INSPECTION of Alexandria Aircraft LLC Bellanca Service Letter 85, Revision B, dated April 8, 2004.

(2) Models 14-19-3A, 17-30, 17-30A, 17-31, 17-31A, 17-31ATC, and 17-31TC airplanes, all S/Ns not referenced in paragraph (g)(1) of this AD (airplanes not previously affected by AD 75-20-06): Before or upon the accumulation of 300 hours time-in-service (TIS) or within the next 25 hours TIS after the effective date of this AD, whichever occurs later, and repetitively thereafter at intervals not to exceed 100 hours TIS, visually inspect the aft fuselage truss for cracks as specified in paragraph 4. INSPECTION of Alexandria Aircraft LLC Bellanca Service Letter 85, Revision B, dated April 8, 2004.

(h) Replacement

If cracks are found during any inspection required by paragraphs (g)(1) and (g)(2) of this AD, before further flight, replace the cracked parts with FAA-approved zero-time parts as specified in paragraph 5. REPAIR of Alexandria Aircraft LLC Bellanca Service Letter 85, Revision B, dated April 8, 2004.

(i) Alternative Methods of Compliance (AMOCs)

(1) The Manager, Chicago Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (l)(1) of this AD.

(2) Before using any approved AMOC, notify your appropriate principal inspector, or lacking a principal inspector, the manager of the local flight standards district office/certificate holding district office.

(3) AMOCs approved for AD 75-20-06, Amendment 39-2372 (40 FR 13184, September 22, 1975) are not approved as AMOCs for the corresponding provisions of this AD.

(j) Related Information

(1) For more information about this AD, contact Steven Rosenfeld, Aerospace Engineer, FAA, Chicago ACO, 2300 East Devon Avenue, Room 107, Des Plaines, IL 60018; phone: (847) 294-7030; fax: (847) 294-7834; email: steven.rosenfeld@faa.gov.

(2) For service information identified in this AD, contact Alexandria Aircraft LLC, 2504 Aga Drive, Alexandria, MN 5630; phone: (320) 763-4088; fax: (320) 763-4095; Internet: www.bellanca-aircraft.com; email: partsales@bellanca-aircraft.com. You may view this referenced service information at the FAA, Small Airplane Directorate, 901 Locust, Kansas City, Missouri 64106. For information on the availability of this material at the FAA, call (816) 329-4148.

Issued in Kansas City, Missouri, on June 24, 2014.
Timothy Smyth,
Acting Manager, Small Airplane Directorate, Aircraft Certification Service.

[FR Doc. 2014-15525 Filed 7-1-14; 8:45 am]

BILLING CODE 4910-13-P